COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products to be furnished by nonprofit agencies employing persons who are blind or have other severe disabilities, and deletes from the Procurement List a product and a service previously furnished by such agencies.

DATES: Effective Date: May 11, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 1/30/2009, the Committee for Purchase From People Who Are Blind or Severely Disabled published notice (74 FR 19, page 5636) of proposed additions to the Procurement List. After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

NSN: 7520-00-NIB-1790—Pen, Retractable .7MM Black (Vista Secure Gel).

NSN: 7520-00-NIB-1972—Pen, Retractable .7MM Blue (Vista Secure Gel).

NPA: Industries of the Blind, Inc., Greensboro, NC.

Contracting Activity: Federal Acquisition Service, GSA/FSS OFC SUP CTR—Paper Products, New York, NY.

Coverage: A-list for the total Government requirement as aggregated by the General Services Administration.

Deletions

On 2/13/2009, the Committee for Purchase From People Who Are Blind or Severely Disabled published notice (74 FR 29, page 7216) of proposed deletions from the Procurement List. After consideration of the relevant matter presented, the Committee has determined that the product and service listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and service to the Government.

3. There are no known regulatory alternatives which would accomplish the objectives of the Javits-Wagner-O'Day Act (41 U.S.C. 46-48c) in connection with the product and service deleted from the Procurement List.

End of Certification

Accordingly, the following product and service are deleted from the Procurement List:

Product

Sponge, Surgical

NSN: 6510-00-116-1285—Sponge, Surgical.

NPA: Unknown (No Producing Agency).

Contracting Activity: Defense Supply Center Philadelphia, Philadelphia, PA.

Service

Service Type/Location: Food Service Attendant, Alabama Air National Guard: 176 Ira Drive, 226th Communication Group, 176 Ira Gray Drive, Gadsden, AL.

NPA: Alabama Goodwill Industries, Inc., Birmingham, AL.

Contracting Activity: Dept. of the Army, XRAW7MT USPFO ACTIVITY AL ARNG, Birmingham, AL.

Barry S. Lineback,
Director, Business Operations.

[FR Doc. E9-8172 Filed 4-9-09; 8:45 am]

BILLING CODE 6353-01-P